ADVISORY COUNCIL ON HISTORIC PRESERVATION

Notice of Meeting

AGENCY: Advisory Council on Historic Preservation.

ACTION: Notice of meeting.

SUMMARY: Notice is hereby given that the Advisory Council on Historic Preservation (ACHP) will meet Thursday, May 14, 2009. The meeting will be held in Room M09 in the Old Post Office Building, 1100 Pennsylvania Avenue, NW., Washington, DC at 9 a.m.

The ACHP was established by the National Historic Preservation Act of 1966 (16 U.S.C. 470 et seq.) to advise the President and Congress on national historic preservation policy and to comment upon Federal, federally assisted, and federally licensed undertakings having an effect upon properties listed in or eligible for inclusion in the National Register of Historic Places. The ACHP's members are the Architect of the Capitol; the Secretaries of the Interior, Agriculture, Defense, Housing and Urban Development, Commerce, Education, Veterans Affairs, and Transportation; the Administrator of the General Services Administration; the Chairman of the National Trust for Historic Preservation; the President of the National Conference of State Historic Preservation Officers; a Governor; a Mayor; a Native American; and eight non-Federal members appointed by the President.

The agenda for the meeting includes the following:

Call To Order—9 a.m.

I. Chairman's Welcome.

II. Preserve America and Chairman's Award Presentation.

III. Native American Activities.

A. Native American Advisory Group.

B. Native American Program Report.

IV. Historic Preservation and the American Recovery and Reinvestment Act.

V. Implementing ACHP Recommendations on the Structure of the Federal Preservation Program.

VI. Preserve America Program Implementation.

A. Current Status.

B. Implementing the Preserve America/Save America's Treasures Authorizing Legislation.

C. Preserve America Summit Recommendations: Looking to the Future.

VII. Preservation Initiatives Committee.

A. Legislative Update.

VIII. Federal Agency Programs Committee.

A. Section 3 Report to the President: Follow Up.

B. Section 106 Case Updates.

IX. Communications, Education, and Outreach Committee.

A. Service Learning Initiative.

X. Chairman's Report.

A. ACHP Alumni Foundation.

B. Transition.

XI. Executive Director's Report.

A. Staff Changes and Recruitment.

B. Diversity Initiative.

XII. New Business.

XIII. Adjourn.

Note: The meetings of the ACHP are open to the public.

If you need special accommodations due to a disability, please contact the Advisory Council on Historic Preservation, 1100 Pennsylvania Avenue, NW., Room 803, Washington, DC, 202-606-8503, at least seven (7) days prior to the meeting. For further information: Additional information concerning the meeting is available from the Executive Director, Advisory Council on Historic Preservation, 1100 Pennsylvania Avenue, NW., #803, Washington, DC 20004.

Dated: April 30, 2009.
John Fowler,
Executive Director.

[FR Doc. E9-10514 Filed 5-6-09; 8:45 am]

BILLING CODE 4310-K6-M